DEPARTMENT OF ENERGY

Federal Energy Regulatory Commission

Combined Notice of Filings #1

Take notice that the Commission received the following electric rate filings:

Docket Numbers: ER14-2718-000.

Applicants: Illinois Power Marketing Company.

Description: § 205(d) rate filing per 35.13(a)(2)(iii): 2013 System Support Resources Agreement to be effective 1/1/2013.

Filed Date: 8/27/14.

Accession Number: 20140827-5086.

Comments Due: 5 p.m. ET 9/17/14.

Docket Numbers: ER14-2737-000.

Applicants: PJM Interconnection, L.L.C.

Description: § 205(d) rate filing per 35.13(a)(2)(iii): Original Service Agreement No. 3920; Queue No. Z1-127 to be effective 7/29/2014.

Filed Date: 8/28/14.

Accession Number: 20140828-5214.

Comments Due: 5 p.m. ET 9/18/14.

Docket Numbers: ER14-2738-000.

Applicants: PJM Interconnection, L.L.C.

Description: § 205(d) rate filing per 35.13(a)(2)(iii): Original Service Agreement No. 3933; Queue No. R30 to be effective 7/29/2014.

Filed Date: 8/28/14.

Accession Number: 20140828-5215.

Comments Due: 5 p.m. ET 9/18/14.

Docket Numbers: ER14-2739-000.

Applicants: Southwest Power Pool, Inc.

Description: § 205(d) rate filing per 35.13(a)(2)(iii): 2899 Pawnee Wind Farm, LLC GIA to be effective 6/12/2014.

Filed Date: 8/29/14.

Accession Number: 20140829-5053.

Comments Due: 5 p.m. ET 9/19/14.

Docket Numbers: ER14-2740-000.

Applicants: PJM Interconnection, L.L.C.

Description: § 205(d) rate filing per 35.13(a)(2)(iii): Revisions to OATT Attachment Q re Export Transactions to be effective 12/31/9998.

Filed Date: 8/29/14.

Accession Number: 20140829-5059.

Comments Due: 5 p.m. ET 9/19/14.

Docket Numbers: ER14-2741-000.

Applicants: AEP Texas Central Company.

Description: § 205(d) rate filing per 35.13(a)(2)(iii): TCC-Bandera Electric Cooperative Interconnection Agreement to be effective 8/4/2014.

Filed Date: 8/29/14.

Accession Number: 20140829-5062.

Comments Due: 5 p.m. ET 9/19/14.

Docket Numbers: ER14-2742-000.

Applicants: Central Maine Power Company.

Description: § 205(d) rate filing per 35.13(a)(2)(iii): Blue Sky West II, LLC Engineering & Procurement Agreement to be effective 10/26/2012.

Filed Date: 8/29/14.

Accession Number: 20140829-5094.

Comments Due: 5 p.m. ET 9/19/14.

Take notice that the Commission received the following electric securities filings:

Docket Numbers: ES14-48-000.

Applicants: South Carolina Electric & Gas Company, South Carolina Generating Company, Inc.

Description: Supplement to August 8, 2014 Application for Authorization under Federal Power Act Section 204 for South Carolina Electric & Gas Company and South Carolina Generating Company, Inc.

Filed Date: 8/28/14.

Accession Number: 20140828-5250.

Comments Due: 5 p.m. ET 9/8/14.

Docket Numbers: ES14-50-000.

Applicants: AEP Texas Central Company.

Description: Application Pursuant to Section 204 of the Federal Power Act for authorization to issue securities of AEP Texas Central Company.

Filed Date: 8/29/14.

Accession Number: 20140829-5065.

Comments Due: 5 p.m. ET 9/19/14.

Docket Numbers: ES14-51-000.

Applicants: AEP Texas North Company.

Description: Application pursuant to Section 204 of the Federal Power Act for authorization to issue securities of AEP Texas North Company.

Filed Date: 8/29/14.

Accession Number: 20140829-5067.

Comments Due: 5 p.m. ET 9/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2014.
Nathaniel J. Davis, Sr.,
Deputy Secretary.

[FR Doc. 2014-21303 Filed 9-5-14; 8:45 am]

BILLING CODE 6717-01-P